DEPARTMENT OF COMMERCE

National Oceanic and Atmospheric Administration

[I.D. 042407C]

Gulf of Mexico Fishery Management Council; Public Meeting

AGENCY: National Marine Fisheries Service (NMFS), National Oceanic and Atmospheric Administration (NOAA), Commerce.

ACTION: Notice of a public meeting.

SUMMARY: The Gulf of Mexico Fishery Management Council will convene a public meeting of the Red Snapper Advisory Panel.

DATES: The Red Snapper AP meeting will convene at 8:30 a.m. on Tuesday, May 15, 2007 and conclude no later than 4 p.m.

ADDRESSES: The meeting will be held at the Four Points by Sheraton, 6401 Veterans Memorial Blvd., Metairie, LA 70003; telephone: (504) 885-5700.

Council address: Gulf of Mexico Fishery Management Council, 2203 North Lois Avenue, Suite 1100, Tampa, FL 33607.

FOR FURTHER INFORMATION CONTACT: Dr. Richard Leard, Deputy Executive Director, telephone: (813) 348-1630.

SUPPLEMENTARY INFORMATION: The Red Snapper AP will be convened to review and comment on Draft Amendment 27 to the Reef Fish Fishery Management Plan and Amendment 14 to the Shrimp Fishery Management Plan. This amendment contains potential management measures to modify the rebuilding plan for red snapper in order to end overfishing and recover this overfished stock. These measures would further reduce the directed red snapper harvest as well as bycatch from both the directed fishery and the shrimp fishery. Copies of the Amendment can be obtained by calling the Council office at (813) 348-1630.

Although other non-emergency issues not on the agenda may come before the Red Snapper AP for discussion, in accordance with the Magnuson-Stevens Fishery Conservation and Management Act (Magnuson-Stevens Act), those issues may not be the subject of formal action during these meetings. Actions of the Red Snapper AP will be restricted to those issues specifically identified in the agenda and any issues arising after publication of this notice that require emergency action under Section 305(c) of the Magnuson-Stevens Act, provided the public has been notified of the Council's intent to take action to address the emergency.

Copies of the agenda can be obtained by calling (813) 348-1630.

Special Accommodations

This meeting is physically accessible to people with disabilities. Requests for sign language interpretation or other auxiliary aids should be directed to Tina Trezza at the Council (see ADDRESSES) at least 5 working days prior to the meeting.

Dated: April 25, 2007.
Tracey L. Thompson,
Acting Director, Office of Sustainable Fisheries, National Marine Fisheries Service.

[FR Doc. E7-8143 Filed 4-27-07; 8:45 am]

BILLING CODE 3510-22-S